DEPARTMENT OF ENERGY

Federal Energy Regulatory Commission

[Docket No. PF12-6-000]

Columbia Gas Transmission, LLC; Supplemental Notice of Intent To Prepare an Environmental Assessment for the Planned Line MB Loop Extension Project and Request for Comments on Environmental Issues

On August 1, 2012, Columbia Gas Transmission, LLC (Columbia) filed its intent to modify the Line MB Loop Extension Project (project) in Baltimore and Harford Counties, Maryland, by incorporating the Alternative Route 16.55A into it's proposed route and dropping the BGE Route Alternative from further consideration. On April 16, 2012, a Notice of Intent to Prepare an Environmental Assessment (original NOI) was issued for the project as originally planned. This Supplemental Notice of Intent (supplemental NOI) addresses these changes. The original NOI is attached to this document, so certain information included in it will not be repeated in the supplemental NOI including the original project description, information about becoming an intervenor, and how to find additional information about the project.

The staff of the Federal Energy Regulatory Commission (FERC or Commission) will prepare an environmental assessment (EA) that will discuss the environmental impacts of the project involving construction and operation of the facilities planned by Columbia, including the supplemental facilities. This EA will be used by the Commission in its decision-making process to determine whether the project is in the public convenience and necessity.

If you are receiving this supplemental NOI, you may be affected by Alternate Route 16.55A. This notice announces the opening of the scoping process the Commission will use to gather input from the public and interested agencies on these supplemental facilities for the project. Your input will help the Commission staff determine what issues need to be evaluated in the EA. Please note that the scoping period will close on September 10, 2012.

This supplemental NOI is being sent to the affected landowners along the Alternative Route 16.55A facilities proposed by Columbia for the project on August 1, 2012. State and local government representatives are asked to notify their constituents of this modification to the planned project and encourage them to comment on their areas of concern. We invite you to file comments; but, we request that you file comments only pertinent to Alternative Route 16.55A.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Summary of the Planned Project

Columbia plans to construct about 21.4 miles of 26-inch-diameter pipeline in Baltimore and Harford Counties, Maryland. The new pipeline would primarily in installed within or adjacent to it's existing rights-of-way.

The planned supplemental facilities would include the Alternative Route 16.55A which would be about 4.1 miles of 26-inch-diameter pipeline departing from the existing Line MA near milepost (MP) 16.55 and ending at MP 21. It would begin where the existing Line MA corridor crosses Dunstan Lane and would parallel Stansbury Mill Road eastward to Allison Road. From this point it would parallel Allison Road northward, and then cross this road extending to the northeast to cross Little Gunpowder Falls. It would continue north northeastward through agricultural land and then turn east southeastward parallel to Hess Road behind the residences along Hess Road. It would then cross Fallston Road and Kings Arms Drive, and turn southeastward to tie back to the Line MA corridor. Because Columbia intends to incorporate this route alternative into the Line MB Loop Extension Project, it longer considers the BGE Route Alternative as part of the proposed route.

The general location of the project facilities is shown in appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. All comments received will be considered during the preparation of the EA.

² “We”, “us”, and “our” refer to the environmental staff of the Commission's Office of Energy Projects.

In the EA we will discuss impacts that could occur as a result of the construction and operation of the planned project under these general headings:

• Geology and soils;

• Land use;

• Water resources, fisheries, and wetlands;

• Cultural resources;

• Vegetation and wildlife;

• Air quality and noise;

• Endangered and threatened species; and

• Public safety.

We will also continue to evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before an application is filed with the FERC. As part of our pre-filing review, we have begun to contact some federal and state agencies to discuss their involvement in the scoping process and the preparation of the EA.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section below.

Consultations Under Section 106 of the National Historic Preservation Act

In accordance with the Advisory Council on Historic Preservation's implementing regulations for section 106 of the National Historic Preservation Act, we are using this notice to initiate consultation with applicable State Historic Preservation Office, and to solicit their views and those of other government agencies, interested Indian tribes, and the public on the project's potential effects on historic properties.³ We will define the project-specific Area of Potential Effects (APE) in consultation with the SHPO as the project is further developed. On natural gas facility projects, the APE at a minimum encompasses all areas subject to ground disturbance (examples include construction right-of-way, contractor/pipe storage yards, compressor stations, and access roads). Our EA for this project will document our findings on the impacts on historic properties and summarize the status of consultations under section 106.

³ The Advisory Council on Historic Preservation's regulations are at Title 36, Code of Federal Regulations, Part 800. Historic properties are defined in those regulations as any prehistoric or historic district, site, building, structure, or object included in or eligible for inclusion in the National Register for Historic Places.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC, on or before September 10, 2012.

For your convenience, there are three methods you can use to submit your comments to the Commission. In all instances, please reference the project docket number (PF10-15-000) with your submission. The Commission encourages electronic filing of comments and has expert eFiling staff available to assist you at (202) 502-8258 or efiling@ferc.gov.

(1) You can file your comments electronically by using the eComment feature, which is located on the Commission's Web site at www.ferc.gov under the link to Documents and Filings. This is an easy method for interested persons to submit brief, text-only comments on a project.

(2) You can file your comments electronically by using the eFiling featured on the Commission's Web site at www.ferc.gov under the link to Documents and Filings. With eFiling you can provide comments in a variety of formats by attaching them as a file with your submission. New eFiling users must first create an account by clicking on “eRegister.” You must select the type of filing you are making. If you are filing a comment on a particular project, please select “Comment on a Filing”; or

(3) You may file a paper copy of your comments at the following address: Kimberly D. Bose, Secretary, Federal Energy Regulatory Commission, 888 First Street NE., Room 1A, Washington, DC 20426.

Environmental Mailing List

You have been added to the current environmental mailing list which includes federal, state, and local government representatives and agencies; elected officials; environmental and public interest groups; Native American Tribes; other interested parties; and local newspapers. This list also includes all the affected landowners (as defined in the Commission's regulations) for the project as originally planned who are potential right-of-way grantors, whose property may be used temporarily for project purposes, or who own homes within certain distances of above ground facilities, and anyone who submits comments on the project. We will update the environmental mailing list as the analysis proceeds to ensure that we send the information related to this environmental review to all individuals, organizations, and government entities interested in and/or potentially affected by the planned project.

If the EA is published for distribution, copies will be sent to the environmental mailing list for public review and comment. If you would prefer to receive a paper copy of the document instead of the CD version or would like to remove your name from the mailing list, please return the attached Information Request (Appendix 2).

Dated: August 9, 2012.
Kimberly D. Bose,
Secretary.

[FR Doc. 2012-20310 Filed 8-17-12; 8:45 am]

BILLING CODE 6717-01-P